DEPARTMENT OF HEALTH AND HUMAN SERVICES

Centers for Medicare & Medicaid Services

42 CFR Chapter IV

[CMS-1227-N]

RIN 0938-ZA40

Medicare Program; Town Hall Meeting on the Outcome Assessment Information Set (OASIS)

AGENCY: Centers for Medicare & Medicaid Services (CMS), HHS.

ACTION: Notice of meeting.

SUMMARY: This notice announces a town hall meeting to discuss and obtain general comments from the public about the items contained in the OASIS home health assessment instrument. Specifically, the meeting will attempt to elicit the individual comments and experiences of home health stakeholders in using the OASIS and any burden associated with its completion, and their comments about the necessity of individual assessment items. Beneficiaries, providers, physicians, home health agencies and industry representatives, encoding specialists, and other interested parties are invited to this meeting to present their individual views on these issues. We will consider the individual opinions provided during this meeting as we proceed with our efforts to update the OASIS assessment instrument and reduce the burden of OASIS data collection by home health care providers. The meeting is open to the public, but attendance is limited to space available.

DATE: Meeting Date: The town hall meeting announced in this notice will be held on Wednesday, July 31, 2002, from 1 p.m. to 4 p.m. (eastern standard time).

ADDRESSES: The town hall meeting will be held in the auditorium at the Centers for Medicare & Medicaid Services, 7500 Security Boulevard, Baltimore, MD 21244.

FOR FURTHER INFORMATION CONTACT: Katie Laschinger, 410-786-2119. You may also send inquiries about this meeting via e-mail to KLaschinger@cms.hhs.gov.

SUPPLEMENTARY INFORMATION:

I. Background

On June 10, 2002, the Secretary of Health and Human Services announced the launching of a new effort to streamline Medicare's paperwork requirements for home health nurses and therapists so that they can focus more on providing quality care to their patients.

The action is one of several steps announced to address interim recommendations from the Secretary's Advisory Committee on Regulatory Reform. Secretary Thompson created the panel of consumers, physicians, and other health care professionals to help guide HHS' broader efforts to streamline unnecessarily burdensome or inefficient regulations that interfere with the quality of health care for Americans.

Since 1999, Medicare has required home health agencies to complete the OASIS (Outcome Assessment Information Set) at regular intervals both to ensure Medicare pays appropriately and to assess and improve the quality of care provided by the home health agency. Committee members, however, made several recommendations for streamlining the assessment to achieve those goals more efficiently, allowing home health agencies to spend more resources providing care to their patients.

Acting on the committee's recommendations to date, we have already taken steps to revise the OASIS form and its use, and will begin implementation of the changes. These changes will be described at the OASIS town hall meeting. We are now interested in providing interested parties with the opportunity to propose additional changes to OASIS as part of the process for the regular update of the OASIS instrument, its format, and use.

II. Meeting Format

The meeting will begin with an overview of the goals of the meeting, the recommendations made by the Secretary's Advisory Committee on Regulatory Reform, the Secretary's Committee on Government Reform, and our efforts to implement those recommendations to revise the OASIS and its administration by home health agencies. The meeting moderator will be introduced along with members of the OASIS Technical Expert Panel, which is working with us on the long-term review and update of OASIS. The moderator will elicit the individual comments and recommendations of the audience about OASIS, its content, and ways to further reduce the burden of OASIS data collection.

Beginning on July 12, 2002, information about the OASIS town hall meeting will be posted at the following website address: www.cms.hhs.gov/oasis/hhnew.asp. At this address, interested parties will find an agenda for the meeting and handouts to be used during the discussions.

We will limit the time for participants to make formal statements according to the number of registered participants. Individuals who wish to make formal statements must contact Katie Laschinger as soon as possible. Those individuals must subsequently submit their formal statement in writing no later than 5 p.m., Wednesday, July 24, 2002. Send written submissions to: Katie Laschinger, Division of Ambulatory and Post Acute Care (DAPAC), Centers for Medicare & Medicaid Services, 7500 Security Boulevard, Mail Stop S3-06-26, Baltimore, Maryland 21244 or Klaschinger@cms.hhs.gov. Comments from individuals not registered to speak will be heard after individuals with scheduled statements, if time permits.

III. Registration Instructions

The DAPAC is coordinating meeting registration. While there is no registration fee, all individuals must register to attend. Because this meeting will be located on Federal property, for security reasons, any persons wishing to attend this meeting must call or e-mail Katie Laschinger to register at least 72 hours in advance. Attendees must show photographic identification to the Federal Protective Service or Guard Service personnel before they will be permitted to enter the building. Individuals who have not registered in advance will not be allowed to enter the building to attend the meeting. Seating capacity is limited to the first 250 registrants.

Individuals requiring sign language interpretation for the hearing impaired or other special accommodations should contact Katie Laschinger at least 10 days before the meeting.

Authority: Section 1891 of the Social Security Act (42 U.S.C. 1395bbb)

(Catalog of Federal Domestic Assistance Program No. 93.773, Medicare—Hospital Insurance; and Program No. 93.774, Medicare—Supplementary Medical Insurance Program)
Dated: July 15, 2002.
Thomas A. Scully,
Administrator, Centers for Medicare & Medicaid Services.

[FR Doc. 02-18149 Filed 7-16-02; 8:45 am]

BILLING CODE 4120-01-P